DEPARTMENT OF HOMELAND SECURITY

Coast Guard

[USCG-2012-1047]

Collection of Information Under Review by Office of Management and Budget

AGENCY: Coast Guard, DHS.

ACTION: Thirty-day notice requesting comments.

SUMMARY: In compliance with the Paperwork Reduction Act of 1995, the U.S. Coast Guard is forwarding an Information Collection Request (ICR), abstracted below, to the Office of Management and Budget (OMB), Office of Information and Regulatory Affairs (OIRA), requesting an extension of its approval to the following collection of information: 1625-0089, National Recreational Boating Survey. Before submitting this ICR to OMB, the Coast Guard is inviting comments as described below.

DATES: Comments must reach the Coast Guard on or before July 1, 2013.

ADDRESSES: To avoid duplicate submissions to the docket [USCG-2012-1047], please use only one of the following means:

(1) Online: http://www.regulations.gov.

(2) Mail: Docket Management Facility (DMF) (M-30), U.S. Department of Transportation (DOT), West Building Ground Floor, Room W12-140, 1200 New Jersey Avenue SE., Washington, DC 20590-0001.

(3) Hand deliver: Same as mail address above, between 9 a.m. and 5 p.m., Monday through Friday, except Federal holidays. The telephone number is 202-366-9329.

(4) Fax: 202-493-2251.

The DMF maintains the public docket for this Notice. Comments and material received from the public, as well as documents mentioned in this Notice as being available in the docket, will become part of the docket and will be available for inspection or copying at Room W12-140 on the West Building Ground Floor, 1200 New Jersey Avenue SE., Washington, DC, between 9 a.m. and 5 p.m., Monday through Friday, except Federal holidays. You may also find the docket on the Internet at http://www.regulations.gov.

A copy of the ICR is available through the docket on the Internet at http://www.regulations.gov. Additionally, a copy is available from: Commandant (CG-612), Attn Paperwork Reduction Act Manager, US Coast Guard, 2100 2nd St. SW., STOP 7101, Washington DC 20593-7101.

FOR FURTHER INFORMATION CONTACT: Contact Mr. Anthony Smith, Office of Information Management, telephone 202-475-3532, or fax 202-475-3929, for questions on these documents. Contact Ms. Barbara Hairston, Program Manager, Docket Operations, 202-366-9826, for questions on the docket.

SUPPLEMENTARY INFORMATION:

Public Participation and Request for Comments

This Notice relies on the authority of the Paperwork Reduction Act of 1995; 44 U.S.C. chapter 35, as amended. An ICR is an application to OIRA seeking the approval, extension, or renewal of a Coast Guard collection of information (Collection). The ICR contains information describing the Collection's purpose, the Collection's likely burden on the affected public, an explanation of the necessity of the Collection, and other important information describing the Collections. There is one ICR for each Collection.

The Coast Guard invites comments on whether this ICR should be granted based on the collection being necessary for the proper performance of Departmental functions. In particular, the Coast Guard would appreciate comments addressing: (1) The practical utility of the collections; (2) the accuracy of the estimated burden of the collections; (3) ways to enhance the quality, utility, and clarity of information subject to the collection; and (4) ways to minimize the burden of the collections on respondents, including the use of automated collection techniques or other forms of information technology. These comments will help OIRA determine whether to approve the ICR referred to in this Notice.

We encourage you to respond to this request by submitting comments and related materials. Comments to Coast Guard or OIRA must contain the OMB Control Number of the ICR. They must also contain the docket number of this request, [USCG 2012-1047], and must be received by July 1, 2013. We will post all comments received, without change, to http://www.regulations.gov. They will include any personal information you provide. We have an agreement with DOT to use their DMF. Please see the “Privacy Act” paragraph below.

Submitting comments: If you submit a comment, please include the docket number [USCG-2012-1047], indicate the specific section of the document to which each comment applies, providing a reason for each comment. You may submit your comments and material online (via http://www.regulations.gov), by fax, mail, or hand delivery, but please use only one of these means. If you submit a comment online via www.regulations.gov, it will be considered received by the Coast Guard when you successfully transmit the comment. If you fax, hand deliver, or mail your comment, it will be considered as having been received by the Coast Guard when it is received at the DMF. We recommend you include your name, mailing address, an email address, or other contact information in the body of your document so that we can contact you if we have questions regarding your submission.

You may submit your comments and material by electronic means, mail, fax, or delivery to the DMF at the address under ADDRESSES; but please submit them by only one means. To submit your comment online, go to http://www.regulations.gov, and type “USCG-2012-1047” in the “Keyword” box. If you submit them by mail or delivery, submit them in an unbound format, no larger than 8½ by 11 inches, suitable for copying and electronic filing. If you submit them by mail and would like to know that they reached the Facility, please enclose a stamped, self-addressed postcard or envelope. We will consider all comments and material received during the comment period and will address them accordingly.

Viewing Comments and Documents

To view comments, as well as documents mentioned in this Notice as being available in the docket, go to http://www.regulations.gov, click on the “read comments” box, which will then become highlighted in blue. In the “Keyword” box insert “USCG-2012-1047” and click “Search.” Click the “Open Docket Folder” in the “Actions” column. You may also visit the DMF in Room W12-140 on the West Building Ground Floor, 1200 New Jersey Avenue SE., Washington, DC, between 9 a.m. and 5 p.m., Monday through Friday, except Federal holidays.

OIRA posts its decisions on ICRs online at http://www.reginfo.gov/public/do/PRAMain after the comment period for each ICR. An OMB Notice of Action on each ICR will become available via a hyperlink in the OMB Control Number: [1625-0089].

Privacy Act

Anyone can search the electronic form of all comments received in dockets by the name of the individual submitting the comment (or signing the comment, if submitted on behalf of an association, business, labor union, etc.). You may review the Privacy Act statement regarding our public dockets in the January 17, 2008 issue of the Federal Register (73 FR 3316).

Previous Request for Comments

This request provides a 30-day comment period required by OIRA. The Coast Guard published the 60-day notice (77 FR 74686, December 17, 2012) required by 44 U.S.C. 3506(c)(2). That Notice elicited three comments.

1. The first commenter wrote: “It would be helpful to recreational boaters if you would take the broadcast from channel 16 and 21 (VHF) as well as DSC distress calls and republish on a twitter feed. Local boaters could follow the feed for “there” [sic] area. (AOR) This is a simple but helpful solution to increase awareness for boating safety issues. Please contact me if you need more information. I am also in the CGA. Thanks.

Answer:

Although the proposed initiative could be potentially beneficial to recreational boaters, it is not within the scope of the National Recreational Boating Survey. This survey's primary goals include measuring boating participation and exposure hours. However, the suggestion made by this commenter will be examined within the broader scope of the Coast Guard's national recreational boating safety program.

2. The second commenter wrote: “we have two federal agencies gouging american taxpayers for wasted tax dollars the sport fishing and boating council of the fws and the us coast guard. to me, the coast guad should be fully in charge of boating. i see absolutely no reason why taxpayers are being gouged to pay for the lobbying organization called the sport fishing and boating council, which obviously should be existing on private dollars and not giouging us taxpayers and pretending to be a federal agency working for the good of all americans, when clearly it is working for corporate profitability. when will the gouging of tax payers stop? when will we shut down obvioius loggying groups that should not be getting one cent of american taxpayers dollars like th esport fishing and boating council of the usfws. the excesses and out of control spending of this govt is oppressive. l out of 2 americans are living in poverty and they are being dunned for taxes so a boating council can operate wastefully, when they have no hope of ever in their lives getting on a boat. the washington excesses are disgusting and depraved. make some cuts here. the coast guard we need. take the money away from the boating council and give it to the coast guard, who should be defending this country's borders from the leaches massively sneaking in here.”[sic]

Answer:

The Coast Guard's National Recreational Boating Survey is presently the only nationwide survey sponsored by the federal government that focuses entirely on recreational boating. Other agencies may collect very limited data on recreational boaters, which does not interfere and is not redundant with the Coast Guard's data collection efforts.

3. The third commenter wrote: “BoatUS is the largest organization of recreational boaters in the United States, with more than half a million members nationwide. As an active participant in the U.S. Coast Guard's boating safety efforts, we appreciate the opportunity to provide our views on the National Recreational Boating Survey.

The development of an accurate picture of the many facets of recreational boating is a commendable goal, particularly for the government agency that has the day-to-day responsibility for its regulation. Well reasoned regulations, supported by timely, precise data, will engender greater support from the regulated community. That, in turn, should result in better compliance with regulations and an increased level of safety.

The current budget constraints faced by various government agencies and non-profit groups with a direct interest in boating safety should also be considered. In reviewing the supporting documentation for this information request, it is apparent this is an ambitious undertaking that will require significant, on-going resources. As this information request is reviewed, we suggest consideration be given to the impact its funding might have on other boating safety programs, particularly those administered by the non-profit sector.

We further believe that The U.S. Coast Guard should review the scope and methodology of the survey. In our view, gathering safety related information should be the priority. The breadth of this survey is too broad given current budget conditions. We also suggest greater use of the Internet, or other less costly methods to implement the survey. Given the continuing advances in access to the Internet by large sections of the United States populations (some 49 million U.S. households have such access) the Coast Guard should work to make greater use of this economical medium to gather data.

The development of timely, accurate data should be integral to the Coast Guard's recreational boating safety mission, and we support that goal. The cost of developing this data, which is funded by the recreational boating community itself through the Sport Fish Restoration and Boating Trust Fund, must, however, be carefully managed. Other crucial boating safety programs should not be sacrificed in the process of gathering this information. Thoughtful deployment of these funds to maximize their safety benefit is crucial to the continued support of the recreational boating community. Thank you for the opportunity to provide our views on the proposed survey.”

Answer:

• Regarding the scope of the survey, the Coast Guard priority is to collect data that is pertinent to the safety program and will reduce redundancy and costs among federal and other partnering agencies. The Coast Guard will review its survey questionnaires before it is implemented, and strive to eliminate the collection of non-essential data. However, reducing the number of questions asked to survey participants will only have a marginal effect on the overall cost of the survey. This is due to the small number of questions that generally apply to the majority of survey respondents. Consequently, the Coast Guard will explore all cost-saving strategies to keep the survey costs reasonable.

• Regarding the use of the Internet for collecting information from boaters, the Coast Guard is already using that data collection mode to a certain extent. In 2012, a substantial amount of boating trip information was collected with the Internet. However, the Internet was used primarily as an alternative data collection mode that was offered to survey participants recruited in a panel from a previously selected random telephone sample.

The Internet as the primary or sole data gathering tool is not yet widely used in government surveys, due to concerns that the Office of Management and Budget (OMB) has expressed about this approach. In a 2006 Memorandum for the President's Management Council, entitled “Guidance on Agency Survey and Statistical Information Collections,” OMB indicated the following:

“Recent estimates are that more than 50 percent of households have Internet access at home. Despite the increasing rate of Internet access in the U.S., there remain systematic differences in socio-demographic characteristics between those who have access to the Internet at home and those who do not. Thus, there are significant coverage errors in any sampling frame composed only of those who have access to the Internet, which could lead to biased estimates when generalizing to the national population.”

Nevertheless, the Coast Guard will continue using the Internet as an alternative data collection mode for boaters who were previously selected using well-established sample selection methods.

Information Collection Request

Title: National Recreational Boating Survey.

OMB Control Number: 1625-0089.

Type of Request: Extension of a currently approved collection.

Respondents: Recreational boating participants and owners of recreational vessels.

Abstract: The Coast Guard National Recreational Boating Survey collects data on recreational boating participants and exposure to hazards. The goal is for the Boating Safety Division to draw a general statistical profile of the U.S. recreational boating population. Of particular importance will be statistics on the type of boats used, activities associated with them, boat operators' knowledge of safety measures, and duration of a typical boating day (referred to as “exposure”). Exposure data will be used to derive a reliable measure of the risk associated with recreational boating that can be used in all jurisdictions.

Forms: None.

Burden Estimate: This is a biennial requirement. The estimated burden has increased from 10,880 hours to 13,050 hours a year.

Authority: The Paperwork Reduction Act of 1995; 44 U.S.C. chapter 35, as amended.

Dated: May 20, 2013.
R.E. Day,
Rear Admiral, U.S. Coast Guard, Assistant Commandant for Command, Control, Communications, Computers and Information Technology.

[FR Doc. 2013-12775 Filed 5-29-13; 8:45 am]

BILLING CODE 9110-04-P